DEPARTMENT OF HEALTH AND HUMAN SERVICES

National Institutes of Health

National Library of Medicine; Cancellation of Meeting

Notice is hereby given of the cancellation of the National Library of Medicine Board of Scientific Counselors, April 27, 2023, 11 a.m. to 5 p.m., Virtual Meeting, which was published in the Federal Register on October 6, 2022, 87 FR 193, Page Number 60696.

This notice is being amended to announce that the meeting is cancelled and will not be rescheduled.

Dated: March 31, 2023.
Miguelina Perez,
Program Analyst, Office of Federal Advisory Committee Policy.

[FR Doc. 2023-07160 Filed 4-5-23; 8:45 am]

BILLING CODE 4140-01-P